DEPARTMENT OF LABOR

Employment and Training Administration

[TA-W-41,340]

Westwood Lighting, El Paso, Texas; Notice of Termination of Investigation

Pursuant to section 221 of the Trade Act of 1974, an investigation was initiated on April 15, 2002, in response to a petition filed by a company official on behalf of workers at Westwood Lighting, El Paso, Texas.

The company official submitting the petition has requested that the petition be withdrawn. Consequently, further investigation in this case would serve no purpose, and the investigation has been terminated.

Signed in Washington, DC, this 23rd day of May, 2002.
Linda G. Poole,
Certifying Officer, Division of Trade Adjustment Assistance.

[FR Doc. 02-15441 Filed 6-18-02; 8:45 am]

BILLING CODE 4510-30-P